DEPARTMENT OF COMMERCE

Foreign-Trade Zones Board

[B-18-2025]

Foreign-Trade Zone (FTZ) 82, Notification of Proposed Production Activity; Rohr, Inc.; (Aircraft Products); Foley, Alabama

Rohr, Inc. submitted a notification of proposed production activity to the FTZ Board (the Board) for its facility in Foley, Alabama within Subzone 82J. The notification conforming to the requirements of the Board's regulations (15 CFR 400.22) was received on March 21, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed material(s)/component(s) would be added to the production authority that the Board previously approved for the operation, as reflected on the Board's website.

The proposed foreign-status materials/components include: acoustic bond panel; actuator; actuator kit (actuator, non-locking switch, guide tube, flex shaft, and manual drive unit); air oil cooler panel; silicone bumper; cascade kit (composite pieces formed together in a honeycomb shape for installation on a thrust reverse to circulate airflow to the aircraft engine); control unit; titanium core cowl skin; customer satisfaction unit kit (flex shaft and flex tube); stainless steel deploy tube; aluminum drag link (with inconel spring); aluminum duct; aluminum fairing; stainless steel flex shaft; aluminum hinge beam; hydraulic control unit; inner fixed structure bond panel; aluminum inlet noselip skin; inner bond panel; aluminum latch beam; stainless steel manifold; manual drive unit; aluminum noselip skin; power pack (for powering the hydraulics of the fan cowl units; pressure relief door; proximity sensor; scoop (for funneling air through the bond panel, acting as ventilation for the aircraft engine; silicone rubber seal; seal land (to support the fire seal within the thrust reverser unit); silicone rubber shield (with metal doubler bonded inside); push button switch; tee (track lock piece connection); aluminum top frame; stainless steel track lock; inlet cowl assembly; door assembly; apron assembly; thrust reverser; and aluminum vent. (duty rate ranges from duty-free to 5.3%). The request [also] indicates that certain materials/components are subject to duties under section 1702(a)(1)(B) of the International Emergency Economic Powers Act (section 1702), section 232 of the Trade Expansion Act of 1962 (section 232) or section 301 of the Trade Act of 1974 (section 301), depending on the country of origin. The applicable section 1702, section 232 and section 301 decisions require subject merchandise to be admitted to FTZs in privileged foreign status (19 CFR 146.41).

Public comment is invited from interested parties. Submissions shall be addressed to the Board's Executive Secretary and sent to: ftz@trade.gov. The closing period for their receipt is May 12, 2025.

A copy of the notification will be available for public inspection in the “Online FTZ Information System” section of the Board's website.

For further information, contact Kolade Osho at Kolade.Osho@trade.gov.

Dated: March 28, 2025.
Elizabeth Whiteman,
Executive Secretary.

[FR Doc. 2025-05637 Filed 4-1-25; 8:45 am]

BILLING CODE 3510-DS-P